FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's website (www.fmc.gov) or by contacting the Office of Agreements at (202)-523-5793 or tradeanalysis@fmc.gov.

Agreement No.: 012456-001.

Title: Turkon Lines—Nile Dutch Africa Space and Sailing Agreement.

Parties: Nile Dutch Africa Line BV and Turkon Container Transportation & Shipping, Inc..

Filing Party: Eric Lee, Esq.; Holland & Knight LLP; 800 17th Street NW, Suite 1100, Washington, DC 20006.

Synopsis: The amendment specifies a range of vessel sizes to be used under the Agreement.

By Order of the Federal Maritime Commission.
Dated: March 9, 2018.
Rachel E. Dickon,
Secretary.

[FR Doc. 2018-05198 Filed 3-13-18; 8:45 am]

BILLING CODE 6731-AA-P